DEPARTMENT OF AGRICULTURE

Forest Service

Information Collection: Federal and Non-Federal Financial Assistance Instruments

AGENCY: Forest Service, Agriculture (USDA).

ACTION: Notice; request for comment.

SUMMARY: In accordance with the Paperwork Reduction Act of 1995, the Forest Service is seeking comments from all interested individuals and organizations on the adoption of a new form to replace multiple versions of a currently approved information collection, OMB 0596-0217, Federal and Non-Federal Financial Assistance Instruments.

DATES: Comments must be received in writing on or before November 13, 2020 to be assured of consideration. Comments received after that date will be considered to the extent practicable.

ADDRESSES: Comments concerning this notice should be addressed to Jacqueline Henry, USDA Forest Service, Director for Office of Grants and Agreements, 1400 Independence Ave. SW, Mailstop 1138, Washington, DC 20250.

Comments also may be submitted via facsimile to 703-605-4776 or by email to: jacqueline.henry@usda.gov.

The public may inspect comments received at USDA Forest Service, 1400 Independence Ave. SW, Washington, DC 20250, during normal business hours. Visitors are encouraged to call ahead to 703-605-4776 to facilitate entry to the building.

FOR FURTHER INFORMATION CONTACT: Jacqueline Henry, Director for Office of Grants and Agreements, telephone 703-605-4776.

Individuals who use telecommunication devices for the deaf (TDD) may call the Federal Relay Service (FRS) at 1-800-877-8339, 24 hours a day, 7 days a week, including holidays.

SUPPLEMENTARY INFORMATION: Title: Federal and Non-Federal Financial Assistant Instruments.

OMB Number: 0596-0217.

Expiration Date of Approval: 11/30/2017.

Type of Request: Renewal with change.

Abstract: In order to perform specific Forest Service activities, Congress created several authorities to assist the Agency in carrying out its mission. The Forest Service issues partnership agreements under specific authorities exempt from the Federal Grants and Cooperative Agreements Act (FGCAA). This collection is for a new form that will be used to enter into the following agreement types by the Forest Service:

(1) Participating Agreements (replaces FS-1500-16 and 16A through 16G),

(2) Cost-Reimbursable Agreement (replaces FS-1500-12),

(3) Joint Venture Agreement (replaces FS-1500-14 and 14A),

(4) Cooperative Research and Development Agreements (replaces FS1500-13 through 13B); and,

(5) Challenge Cost-Share Agreement (replaces FS-1500-10 and 10A through 10C).

In addition to Federal Financial Assistance (FFA), Congress created specific authorizations for acts outside the scope of the FGCAA. Appropriations language was developed to convey authority for the Forest Service to enter into relationships that are outside the scope of the FGCAA. The Forest Service implements these authorizations using instruments such as collection agreements, FGCAA exempted agreements, memorandums of understanding, and other agreements which mutually benefit participating parties. These instruments fall outside the scope of the Federal Acquisition Regulations (FAR) and often require financial plans and statements of work. Forest Service employees collect information from cooperating parties from the pre-award to the closeout stage via telephone calls, emails, postal mail, and person-to-person meetings to create, develop, and administer these funded and non-funded agreements. The multiple means for respondents to communicate their responses include forms, non-forms, electronic documents, face-to-face, telephone, and internet. The scope of information collected varies; however, it typically includes the project type, project scope, financial plan, statement of work, and cooperator's business information.

The Forest Service would not be able to create, develop, and administer these funded and non-funded agreements without the collected information. The Agency would also be unable to develop or monitor projects, make or receive payments, or identify financial and accounting errors.

Estimate of Annual Burden: 1 to 4 hours annually per person.

Type of Respondents: Non-profit and for profit institutions; institutions of higher education; State, local, and Native American tribal governments, individuals; foreign governments; and organizations.

Estimated Annual Number of Respondents for New Form: 1,875.

Estimated Annual Number of Responses per Respondent: 1 to 4.

Estimated Total Annual Burden on Respondents: 7,500 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Jacqueline Henry,
Director, Grants and Agreements Policy.

[FR Doc. 2020-20195 Filed 9-11-20; 8:45 am]

BILLING CODE 3411-15-P